OFFICE OF PERSONNEL MANAGEMENT

Hispanic Council on Federal Employment

AGENCY: U.S. Office of Personnel Management.

ACTION: March 29, 2016 Council meeting.

SUMMARY: The Hispanic Council on Federal Employment (Council) meeting will be held on Tuesday, March 29, 2016 at the location shown below from 1:00 p.m. to 2:30 p.m.

The Council is an advisory committee composed of representatives from Hispanic organizations and senior government officials. Along with its other responsibilities, the Council shall advise the Director of the Office of Personnel Management on matters involving the recruitment, hiring, and advancement of Hispanics in the Federal workforce. The Council is co-chaired by the Director of the Office of Personnel Management and the Chair of the National Hispanic Leadership Agenda (NHLA).

The meeting is open to the public. Please contact the Office of Personnel Management at the address shown below if you wish to present material to the Council at any of the meetings. The manner and time prescribed for presentations may be limited, depending upon the number of parties that express interest in presenting information.

ADDRESSES: U.S. Office of Personnel Management, 1900 E St. NW., Executive Conference Room, 5th Floor, Washington, DC 20415.

FOR FURTHER INFORMATION CONTACT: Sharon Wong, Deputy Director, Policy & Coordination for the Office of Diversity and Inclusion, Office of Personnel Management, 1900 E St. NW., Suite 5H35, Washington, DC 20415. Phone (202) 606-0020 FAX (202) 606-6012 or email at sharon.wong@opm.gov.

U.S. Office of Personnel Management.
Beth F. Cobert,
Acting Director.

[FR Doc. 2016-05455 Filed 3-9-16; 8:45 am]

BILLING CODE 6820-B2-P